DEPARTMENT OF EDUCATION

National Advisory Committee on Institutional Quality and Integrity

AGENCY: U.S. Department of Education National Advisory Committee on Institutional Quality and Integrity, Education.

ACTION: Notice of Membership.

SUMMARY: This notice lists the members of the National Advisory Committee on Institutional Quality and Integrity (NACIQI). This notice is required under Section 114(e) (1) of the Higher Education Act of 1965, as amended (HEA).

SUPPLEMENTARY INFORMATION:

NACIQI's Statutory Authority and Function

The NACIQI is established under Section 114 of the HEA and is composed of 18 members appointed—

(A) On the basis of the individual's experience, integrity, impartiality, and good judgment;

(B) From amongst individuals who are representatives of, or knowledgeable concerning, education and training beyond secondary education, representing all sectors and types of institutions of higher education; and,

(C) On the basis of the individual's technical qualifications, professional standing, and demonstrated knowledge in the fields of accreditation and administration of higher education.

The NACIQI meets at least twice a year and provides recommendations to the Secretary of Education pertaining to:

• The establishment and enforcement of the standards of accrediting agencies or associations under subpart 2 of part H of Title IV, HEA.

• The recognition of specific accrediting agencies or associations.

• The preparation and publication of the list of nationally recognized accrediting agencies and associations.

• The eligibility and certification process for institutions of higher education under Title IV of the HEA.

• The relationship between (1) accreditation of institutions of higher education and the certification and eligibility of such institutions and (2) State licensing responsibilities with respect to such institutions.

• Any other advisory functions relating to accreditation and institutional eligibility that the Secretary may prescribe by regulation.

ADDRESSES: U.S. Department of Education, Office of Postsecondary Education, 1990 K Street NW., Room 8072, Washington, DC 20006.

FOR FURTHER INFORMATION CONTACT: Jennifer Hong, Executive Director/Designated Federal Official, NACIQI, U.S. Department of Education, 1990 K Street, NW., Room 8073, Washington, DC 20006-8129, telephone: (202) 502-7696, fax: (202) 502-7874, or email Jennifer.Hong@ed.gov.

What are the Terms of office for the committee members?

The term of office of each member is six years. Any member appointed to fill a vacancy occurring prior to the expiration of the term for which the member's predecessor was appointed is appointed for the remainder of the term.

Who are the current members of the committee?

The current members of the NACIQI are:

Members Appointed by Secretary of Education Arne Duncan With Terms Expiring September 30, 2019

• Susan D. Phillips, Ph.D., NACIQI Chair, Vice President for Strategic Partnerships, University at Albany/SUNY, Albany, New York.

• Simon J. Boehme (Student Member), Mitchell Scholar, Maynooth University, Kennedy Institute for Conflict Intervention, Kalamazoo, Michigan.

• Roberta L. Derlin, Ph.D., Associate Provost Emeritus, New Mexico State University, Albuquerque, New Mexico.

• John Etchemendy, Ph.D., Provost, Stanford University, Stanford, California.

• Frank H. Wu, J.D., Chancellor and Dean, University of California Hastings College of Law, San Francisco, California.

• Federico Zaragoza, Ph.D., Vice Chancellor for Economic and Workforce Development, Alamo Colleges, San Antonio, Texas.

Members Appointed by the Speaker of the House of Representatives With Terms Expiring September 30, 2020

• Kathleen Sullivan Alioto, Ed.D., Strategic Advisor, Fundraiser, and Consultant, New York, New York, San Francisco, California, and Boston, Massachusetts.

• George T. French, Jr., Ph.D., President, Miles College, Fairfield, Alabama.

• Arthur E. Keiser, Ph.D., NACIQI Vice Chair, Chancellor, Keiser University, Fort Lauderdale, Florida.

• William Pepicello, Ph.D., President Emeritus, University of Phoenix, Scottsdale, Arizona.

• Arthur J. Rothkopf, J.D., President Emeritus, Lafayette College, Washington, DC.

• Ralph Wolff, J.D., Independent Consultant, Oakland, California.

Members Appointed by the President Pro Tempore of the Senate With Terms Expiring September 30, 2016

• George “Hank” Brown, President Emeritus, University of Colorado, Denver, Colorado.

• Jill Derby, Ph.D., Senior Consultant, Association of Governing Boards of Universities and Colleges, Gardnerville, Nevada.

• Paul J. LeBlanc, Ph.D., President, Southern New Hampshire University, Manchester, New Hampshire.

• Anne D. Neal, J.D., President, American Council of Trustees and Alumni, Washington, DC.

• Richard F. O'Donnell, Founder and CEO, Skills Fund, Austin, Texas.

• Cameron C. Staples, J.D., President and CEO, New England Association of Schools and Colleges, Burlington, Massachusetts.

Electronic Access to This Document: The official version of this document is the document published in the Federal Register. Free Internet access to the official edition of the Federal Register and the Code of Federal Regulations is available via the Federal Digital System at www.gpo.gov/fdsys. At this site you can view this document, as well as all other documents of this Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: 20 U.S.C. 1011c.

Arne Duncan,
Secretary of Education.

[FR Doc. 2015-32933 Filed 12-30-15; 8:45 am]

BILLING CODE P